FEDERAL COMMUNICATIONS COMMISSION

47 CFR Part 15

[ET Docket No. 13-49; FCC 14-30]

Unlicensed National Information Infrastructure (U-NII) Devices in the 5 GHz Band

AGENCY: Federal Communications Commission.

ACTION: Correcting amendments.

SUMMARY: On May 1, 2014, the Commission released a Report and Order, “Unlicensed National Information Infrastructure (U-NII) Devices in the 5 GHz Band.” This document contains corrections to the final regulations that appeared in the Federal Register on May 1, 2014 (79 FR 24569).

DATES: Effective September 24, 2014.

FOR FURTHER INFORMATION CONTACT: Aole Wilkins, Office of Engineering and Technology, (202) 418-2406 or email Aole.Wilkins@fcc.gov.

SUPPLEMENTARY INFORMATION:

Background

The final regulations that are the subject of this correction relates to “Unlicensed National Information Infrastructure (U-NII) Devices in the 5 GHz Band” under § 15.407(a)(2) and (h)(2) of the rules.

Need for Correction

As published, the amendatory instructions in the final regulations contain errors that are misleading and need immediate correction.

List of Subjects in 47 CFR Part 15

Communications equipment, Radio.

Accordingly, 47 CFR part 15 is corrected by making the following correcting amendments:

PART 15—RADIO FREQUENCY DEVICES

1. The authority citation for part 15 continues to read as follows:

Authority: 47 U.S.C. 154, 302a, 303, 304, 307, 336, 544a, and 549.

2. Section 15.407 is amended by revising the first sentence of paragraph (a)(2) and by revising paragraph (h)(2) to read as follows:

§ 15.407 General technical requirements.

(a) * * *

(2) For the 5.25-5.35 GHz and 5.47-5.725 GHz bands, the maximum conducted output power over the frequency bands of operation shall not exceed the lesser of 250 mW or 11 dBm + 10 log B, where B is the 26 dB emission bandwidth in megahertz. * * *

* * * * *

(h) * * *

(2) Radar Detection Function of Dynamic Frequency Selection (DFS). U-NII devices operating with any part of its 26 dB emission bandwidth in the 5.25-5.35 GHz and 5.47-5.725 GHz bands shall employ a DFS radar detection mechanism to detect the presence of radar systems and to avoid co-channel operation with radar systems. Operators shall only use equipment with a DFS mechanism that is turned on when operating in these bands. The device must sense for radar signals at 100 percent of its emission bandwidth. The minimum DFS detection threshold for devices with a maximum e.i.r.p. of 200 mW to 1 W is −64 dBm. For devices that operate with less than 200 mW e.i.r.p. and a power spectral density of less than 10 dBm in a 1 MHz band, the minimum detection threshold is −62 dBm. The detection threshold is the received power averaged over 1 microsecond referenced to a 0 dBi antenna. For the initial channel setting, the manufacturers shall be permitted to provide for either random channel selection or manual channel selection.

(i) Operational Modes. The DFS requirement applies to the following operational modes:

(A) The requirement for channel availability check time applies in the master operational mode.

(B) The requirement for channel move time applies in both the master and slave operational modes.

(ii) Channel Availability Check Time. A U-NII device shall check if there is a radar system already operating on the channel before it can initiate a transmission on a channel and when it has to move to a new channel. The U-NII device may start using the channel if no radar signal with a power level greater than the interference threshold values listed in paragraph (h)(2) of this section, is detected within 60 seconds.

(iii) Channel Move Time. After a radar's presence is detected, all transmissions shall cease on the operating channel within 10 seconds. Transmissions during this period shall consist of normal traffic for a maximum of 200 ms after detection of the radar signal. In addition, intermittent management and control signals can be sent during the remaining time to facilitate vacating the operating channel.

(iv) Non-occupancy Period. A channel that has been flagged as containing a radar system, either by a channel availability check or in-service monitoring, is subject to a non-occupancy period of at least 30 minutes. The non-occupancy period starts at the time when the radar system is detected.

* * * * *

Federal Communications Commission.
Marlene H. Dortch,
Secretary, Office of the Secretary, Office of Managing Director.

[FR Doc. 2014-22677 Filed 9-23-14; 8:45 am]

BILLING CODE 6712-01-P